DEPARTMENT OF TRANSPORTATION

Federal Aviation Administration

14 CFR Part 39

[Docket No. FAA-2006-24585; Directorate Identifier 2004-NM-275-AD]

RIN 2120-AA64

Airworthiness Directives; McDonnell Douglas Model DC-9-14, DC-9-15, and -15F Airplanes; Model DC-9-21 Airplanes; Model DC-9-30 Series Airplanes; Model DC-9-41 Airplanes; and Model DC-9-51 Airplanes

AGENCY: Federal Aviation Administration (FAA), Department of Transportation (DOT).

ACTION: Notice of proposed rulemaking (NPRM).

SUMMARY: The FAA proposes to supersede an existing airworthiness directive (AD) that applies to certain McDonnell Douglas Model DC-9-10, DC-9-20, DC-9-30, DC-9-40, and DC-9-50 series airplanes. The existing AD currently requires a one-time inspection at a certain disconnect panel in the left forward cargo compartment to find contamination of electrical connectors and to determine if a dripshield is installed over the disconnect panel, and corrective actions if necessary. This proposed AD would revise the applicability of the existing AD to remove certain airplanes and add others. This proposed AD results from a report of electrical arcing that resulted in a fire. We are proposing this AD to prevent contamination of certain electrical connectors, which could cause electrical arcing and consequent fire on the airplane.

DATES: We must receive comments on this proposed AD by June 15, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Boeing Commercial Airplanes, Long Beach Division, 3855 Lakewood Boulevard, Long Beach, California 90846, Attention: Data and Service Management, Dept. C1-L5A (D800-0024), for service information identified in this proposed AD.

FOR FURTHER INFORMATION CONTACT: Elvin K. Wheeler, Aerospace Engineer, Systems and Equipment Branch, ANM-130L, FAA, Los Angeles Aircraft Certification Office, 3960 Paramount Boulevard, Lakewood, California 90712-4137; telephone (562) 627-5344; fax (562) 627-5210.

SUPPLEMENTARY INFORMATION:

Comments Invited

We invite you to submit any relevant written data, views, or arguments regarding this proposed AD. Send your comments to an address listed in the ADDRESSES section. Include the docket number “Docket No. FAA-2006-24585; Directorate Identifier 2004-NM-275-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or may can visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On January 22, 2003, we issued AD 2003-03-08, amendment 39-13032 (68 FR 4900, January 31, 2003), for certain McDonnell Douglas Model DC-9-10, DC-9-20, DC-9-30, DC-9-40, and DC-9-50 series airplanes. That AD requires a one-time inspection at a certain disconnect panel in the left forward cargo compartment to find contamination of electrical connectors and to determine if a dripshield is installed over the disconnect panel, and corrective actions if necessary. That AD resulted from a report of electrical arcing that resulted in a fire. We issued that AD to prevent contamination of certain electrical connectors, which could cause electrical arcing that could result in a fire on the airplane.

Actions Since Existing AD Was Issued

Since we issued AD, we have reviewed Revision 2 of Boeing Alert Service Bulletin DC9-24A190, dated October 12, 2004 (Revision 1 of the service bulletin was referred to in AD 2003-03-08 as the appropriate source of service information for the required actions). The one-time general visual inspection and corrective actions specified in Revision 2 are identical to those in Revision 1. The effectivity of Revision 2 has been changed to include 369 additional airplanes (254 U.S.-registered airplanes) that were inadvertently omitted from Revision 1 and to remove 25 airplanes (19 U.S.-registered airplanes) that have been removed from service due to an accident, dismantling, or scrapping. Accomplishing the actions specified in the service information is intended to adequately address the unsafe condition.

FAA's Determination and Requirements of the Proposed AD

We have evaluated all pertinent information and identified an unsafe condition that is likely to develop on other airplanes of the same type design. For this reason, we are proposing this AD, which would supersede AD 2003-03-08 and would retain the requirements of the existing AD. This proposed AD would also revise the applicability of the existing AD to remove certain airplanes and add others. For the added airplanes, this proposed AD would require accomplishing the actions specified in Boeing Alert Service Bulletin DC9-24A190, Revision 2, dated October 12, 2004, described previously.

Differences Between the Proposed AD and Service Bulletin

McDonnell Douglas Model DC-9-15F airplanes are not specifically identified by model name in paragraph 1.A., “Effectivity,” of Boeing Alert Service Bulletin DC9-24A190, Revision 2. However, those airplanes are identified by manufacturer's fuselage numbers in the effectivity listing. Therefore, we have listed those airplanes in the applicability of this proposed AD.

In addition, paragraph 1.A., “Effectivity,” of Boeing Alert Service Bulletin DC9-24A190, Revision 2, specifies Model “DC-9-33” airplanes. There is no such model on the FAA Type Certificate Data Sheet No. A6WE, dated November 1, 2001. Therefore, the applicability of this proposed AD does not refer to that model designation.

We have coordinated the differences above with the airplane manufacturer.

Changes to Existing AD

This proposed AD would retain all requirements of AD 2003-03-08. Since AD 2003-03-08 was issued, the AD format has been revised, and certain paragraphs have been rearranged. As a result, the corresponding paragraph identifiers have changed in this proposed AD, as listed in the following table:

Revised Paragraph Identifiers
Requirement in AD 2003-03-08 | Corresponding requirement in this proposed AD
Paragraph (a) | Paragraph (f).
Paragraph (b) | Paragraph (g).

After AD 2003-03-08 was issued, we reviewed the figures we have used over the past several years to calculate AD costs to operators. To account for various inflationary costs in the airline industry, we find it necessary to increase the labor rate used in these calculations from $65 per work hour to $80 per work hour. Also, the number of affected U.S.-registered airplanes that need to comply with the inspection required by AD 2003-03-08 was increased from 51 airplanes to 170 airplanes. The cost impact information, below, reflects this increase in the specified hourly labor rate.

Costs of Compliance

There are about 649 airplanes of the affected design in the worldwide fleet. The following table provides the estimated costs for U.S. operators to comply with this proposed AD.

Estimated Costs
Action | Work hours | Average labor rate per hour | Cost per airplane | Number of U.S.-registered airplanes | Fleet cost
Inspection (required by AD 2003-03-08) | 1 | $80 | $80 | 170 | $13,600
Inspection (new proposed action) | 1 | 80 | 80 | 254 | 20,320

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13032 (68 FR 4900, January 31, 2003) and adding the following new airworthiness directive (AD):

McDonnell Douglas: Docket No. FAA-2006-24585; Directorate Identifier 2004-NM-275-AD.

Comments Due Date

(a) The FAA must receive comments on this AD action by June 15, 2006.

Affected ADs

(b) This AD supersedes AD 2003-03-08.

Applicability

(c) This AD applies to the McDonnell Douglas airplanes identified in Table 1 of this AD, certificated in any category, as identified in Boeing Alert Service Bulletin DC9-24A190, Revision 2, dated October 12, 2004.

Table 1.—Affected Airplanes
Model
(1) DC-9-14, DC-9-15, and -15F airplanes.
(2) DC-9-21 airplanes.
(3) DC-9-31, DC-9-32, DC-9-32 (VC-9C), DC-9-32F, DC-9-32F (C-9A, C-9B), DC-9-33F, DC-9-34, and DC-9-34F airplanes.
(4) DC-9-41 airplanes.
(5) DC-9-51 airplanes.

Unsafe Condition

(d) This AD results from a report of electrical arcing that resulted in a fire. We are issuing this AD to prevent contamination of certain electrical connectors, which could cause electrical arcing and consequent fire on the airplane.

Compliance

(e) You are responsible for having the actions required by this AD performed within the compliance times specified, unless the actions have already been done.

Requirements of AD 2003-03-08

One-Time Inspection and Corrective Actions

(f) For airplanes equipped with forward lavatories, as listed Boeing Alert Service Bulletin DC9-24A190, Revision 01, dated November 21, 2001: Within 18 months after March 7, 2003 (the effective date AD 2003-03-08), perform a one-time general visual inspection of the disconnect panel at station Y=237.000 in the left forward cargo compartment to find evidence of contamination (e.g., staining or corrosion) of electrical connectors by blue water, and to determine if a dripshield is installed over the disconnect panel. Do this inspection according to the Accomplishment Instructions of Boeing Alert Service Bulletin DC9-24A190, Revision 01, excluding Evaluation Form, dated November 21, 2001.

(1) If no evidence of contamination of electrical connectors is found, and a dripshield is installed, no further action is required by this AD.

(2) If any evidence of contamination of any electrical connector is found: Before further flight, remove each affected connector, and install a new or serviceable connector according to the service bulletin.

(3) If no dripshield is installed over the disconnect panel: Before further flight, install a dripshield according to the service bulletin.

Previously Accomplished Inspections and Corrective Actions

(g) Inspections and corrective actions accomplished before March 7, 2003, in accordance with the Accomplishment Instructions of Boeing Alert Service Bulletin DC9-24A190, dated July 31, 2001, are considered acceptable for compliance with the corresponding action specified in paragraph (f) of this AD.

New Requirements of this AD

One-Time Inspection and Corrective Actions

(h) For airplanes other than those identified in paragraph (f) of this AD: Within 18 months after the effective date of this AD, do the one-time general visual inspection and applicable corrective actions specified in paragraph (f) of this AD, in accordance with Boeing Alert Service Bulletin DC9-24A190, Revision 2, dated October 12, 2004. The applicable corrective actions must be done before further flight.

Alternative Methods of Compliance (AMOCs)

(i)(1) The Manager, Los Angeles Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Issued in Renton, Washington, on April 20, 2006.
Kalene C. Yanamura,
Acting Manager, Transport Airplane Directorate, Aircraft Certification Service.

[FR Doc. E6-6497 Filed 4-28-06; 8:45 am]

BILLING CODE 4910-13-P